DEPARTMENT OF LABOR

Mine Safety and Health Administration

[Docket No. MSHA-2018-0015]

Escapeways and Refuges in Underground Metal and Nonmetal Mines

AGENCY: Mine Safety and Health Administration, Labor.

ACTION: Announcement of public meeting and extension of comment period.

SUMMARY: In response to requests from stakeholders, the Mine Safety and Health Administration (MSHA) is announcing the date and location of a public meeting on a Program Policy Letter (PPL) on escapeways and refuges in underground metal and nonmetal mines, published on July 29, 2019 (84 FR 36623). The public comment period is extended until October 28, 2019, to give stakeholders additional time to provide input.

DATES: The meeting date and location is listed in the SUPPLEMENTARY INFORMATION section of this document. Comments must be received or postmarked by midnight Eastern Daylight Saving Time (EST) on October 28, 2019.

ADDRESSES: Submit comments and informational materials, identified by Docket No. MSHA-2018-0015, by one of the following methods:

• Federal E-Rulemaking Portal: https://www.regulations.gov. Follow the on-line instructions for submitting comments.

• Email: zzMSHA-comments@dol.gov.

• Email: GoodGuidance@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th floor East, Suite 4E401.

• Fax: 202-693-9441.

Instructions: All submissions must include Docket No. MSHA-2018-0015. Do not include personal information that you do not want publicly disclosed.

Email Notification: To subscribe to receive email notification when MSHA publishes rulemaking documents in the Federal Register, go to https://public.govdelivery.com/accounts/USDOL/subscriber/new.

Availability of Information

Docket: For access to the docket to read comments received, go to http://www.regulations.gov or http://arlweb.msha.gov/currentcomments.asp. To read background documents, go to http://www.regulations.gov. Review the docket in person at MSHA, Office of Standards, Regulations, and Variances, 201 12th Street South, Arlington, Virginia, between 9:00 a.m. and 5:00 p.m. Monday through Friday, except Federal Holidays. Sign in at the receptionist's desk in Suite 4E401. [Docket Number: MSHA-2018-0015]

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

Public Meeting

On July 29, 2019, MSHA published a Federal Register notice, Availability of Program Policy Letter (PPL) and Request for Comments (84 FR 36623), regarding escapeways and refuges in underground metal and nonmental (MNM) mines. Based on questions from underground MNM mine operators, MSHA believes that this PPL addresses a significant safety issue regarding the placement of a refuge in a location that provides miners access if they cannot escape.

MSHA will hold a public meeting to receive input from industry, labor, and other interested parties on the PPL. The public meeting will be held on October 10, 2019, at MSHA Headquarters, 201 12 Street South, Arlington, Virginia 22202-5452. The public meeting will begin at 9 a.m. local time and conclude at 5 p.m., or until the last speaker speaks. The meetings will be conducted in an informal manner. Speakers and other attendees may present information to MSHA for inclusion in the public docket. The verbatim transcript may be viewed at https://www.regulations.gov/ and on MSHA's website at: https://www.msha.gov/regulations/escapeways-and-refuges-underground-metal-and-nonmetal-mines.

David G. Zatezalo,
Assistant Secretary for Mine Safety and Health Administration.

[FR Doc. 2019-20733 Filed 9-24-19; 8:45 am]

BILLING CODE 4520-43-P